DEPARTMENT OF TRANSPORTATION

National Highway Traffic Safety Administration

[Docket No. NHTSA-2015-0061]

Reports, Forms, and Recordkeeping Requirements: Agency Information Collection Activity

ACTION: Request for public comment on a proposed collection of information

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes one collection of information for which NHTSA intends to seek OMB approval.

DATES: Written comments should be submitted by December 28, 2015.

ADDRESSES: You may submit comments identified by Docket No. NHTSA-2015-0061 through one of the following methods:

• Federal eRulemaking Portal: Go to http://www.regulations.gov. Follow the online instructions for submitting comments.

• Mail or Hand Delivery: Docket Management Facility, US Department of Transportation, 1200 New Jersey Avenue SE., West Building Ground Floor, Room W12-140, Washington, DC 20590 between 9 a.m. and 5 p.m. Eastern Time, Monday through Friday, except Federal holidays. Telephone: 202-366-9826.

• Fax: 202-493-2251.

Instructions: All submission must include the agency name and docket number for this proposed collection of information. Note that all comments received will be posted without change to http://www.regulation.gov, including any personal information provided. Please see the Privacy heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read comments received, go to http://www.regulations.gov, or the street address listed above. Follow the online instructions for accessing the dockets.

FOR FURTHER INFORMATION CONTACT: For access to background documents, contact Ritchie Huang, Office of Crash Avoidance and Electronic Controls, National Highway Traffic Safety Administration, U.S. Department of Transportation, 1200 New Jersey Avenue SE., Washington, DC 20590; email: ritchie.huang@dot.gov; telephone: 202-366-5586.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the following proposed collection of information for which the agency is seeking approval from OMB:

OMB Control Number: Not assigned.

Title: Heavy Vehicle Collision Warning Interfaces

Form Numbers: None.

Type of Review: New Information Collection

Background: Crash warning systems (CWSs) for commercial motor vehicles have been available for more than 20 years. CWSs can include features such as forward collision and lane departure warnings and use a variety of sensor technologies (e.g., radar) to determine the crash risk of a collision. CWSs are designed to warn the driver to take action to avoid or mitigate a potential crash.

CWSs are available as both options from OEMs and as aftermarket/retrofit devices. While there are certain similarities between offerings within a particular CWS product class (e.g., forward collision warning (FCW)), there are also differences in how suppliers present collision warnings, including the design of visual displays and auditory alerts. Typically, suppliers will use a combination of visual and audio modalities to convey a potential crash situation to the driver. However, their implementations vary across factors such as the visual interface, auditory alert, and the salience of alerts. While CWS implementations change and evolve, it is likely that certain warning interfaces are more effective than others during crash-imminent situations. This research seeks to examine the impact of CWSs as they pertain to commercial motor vehicle safety. The primary goal of this effort is to evaluate CWSs and assess the effectiveness of these driver-vehicle interfaces for heavy trucks and motorcoaches.

Description of the Need for the Information and Proposed Use of the Information: The collection of information consists of: (1) An eligibility questionnaire, (2) a demographic questionnaire, (3) mid study questionnaires, and (4) post study questionnaire.

The information to be collected will be used to:

• Eligibility questionnaire(s) will be used to obtain self-reported eligibility information participants must meet to qualify for participation in this study (e.g., must hold valid Class A driver's license to drive a tractor-trailer).

• Demographic questionnaire will be used to obtain demographic information to confirm that the study group includes participants from various groups (e.g., age, gender). Other demographic information will be collected to describe the study sample (e.g., heavy vehicle operation type and classification).

• Mid-study questionnaires will be used to get information about drivers' beliefs and attitude towards different driver distractions and their willingness to perform these types of distractions in their own vehicle. These questionnaires also serve the purpose of setting up the true surprise event which is targeted to elicit a natural response from the driver during a crash warning. Each driver will complete three mid study questionnaires, one after experiencing each task.

• Post study questionnaire(s) will be used to get information about drivers' beliefs and attitude towards the visual and auditory alerts used in the technology tested, and to identify potential problems associated with each system. These questionnaires will also be used to assess perceived distraction potential of the systems as well as its usefulness. Each driver will complete a post study questionnaire once, after experiencing the surprise event.

Respondents: Virginia, West Virginia, North Carolina, and Tennessee drivers with a valid Class A commercial driver license.

Estimated Number of Respondents: 50 to 60.

Estimated Number of Responses: Eligibility screening will consist of one response containing 26 questions per respondent. Full participation in the study will include a demographics questionnaire containing seven questions per participant, three mid-study questionnaires each containing three questions per participant, and the post questionnaire containing 12 questions per participant.

Estimated Total Annual Burden: 37 minutes per respondent (44 hours total).

Estimated Frequency: Onetime for the eligibility, post study, and demographic questionnaire; three times for the mid study questionnaire.

Table 1—Estimated Burden Hours
Instrument | Number of respondents ¹ | Frequency of responses | Number of questions | Estimated individual burden (minutes) | Total estimated burden hours | Total annualize cost to respondents ²
Eligibility questionnaire | 100 | 1 | 26 | 10 | 17 | $414.80
Demographic questionnaire | 60 | 1 | 7 | 2 | 2 | 48.80
Mid-study questionnaires | 60 | 3 | 9 | 10 | 10 | 244.00
Post study questionnaire | 60 | 1 | 12 | 15 | 15 | 366.00
Total |  |  |  |  | 44 hours | 1,073.60
¹ The number of respondents in this table includes drop-out rates.
² Estimated based on the mean hourly rate for Virginia (all occupations) is $24.40 as reported in the May 2014 Occupational Employment and Wage Estimates, Bureau of Labor Statistics. http://www.bls.gov/oes/current/oes_va.htm.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995, 44. U.S.C. Chapter 35, as amended; 5 CFR part 1320; and 49 CFR 1.95.

Nathaniel Beuse,
Associate Administrator for Vehicle Safety Research.

[FR Doc. 2015-27480 Filed 10-28-15; 8:45 am]

BILLING CODE 4910-59-P